DEPARTMENT OF DEFENSE

Department of the Navy

Notice of Availability of Record of Decision for the Disposal of Decommissioned, Defueled Ex-Enterprise (CVN 65) and its Associated Naval Reactor Plants Environmental Impact Statement/Overseas Environmental Impact Statement

AGENCY: Department of the Navy (DoN), Department of Defense (DoD).

ACTION: Notice of availability.

SUMMARY: After carefully weighing the environmental, strategic, and operational consequences of the Proposed Action, DoN announces its decision to select Alternative 3 (Commercial Dismantlement), the Preferred Alternative, from the Disposal of Decommissioned, Defueled Ex-Enterprise (CVN 65) and its Associated Naval Reactor Plants Final Environmental Impact Statement/Overseas Environmental Impact Statement (EIS/OEIS), published in the Federal Register on June 30, 2023.

ADDRESSES: The complete text of the Record of Decision (ROD) is available on the project website at: www.carrierdisposaleis.com, along with the Final EIS/OEIS and supporting documents. Printed copies of the Final EIS/OEIS and ROD are also available for viewing at these public libraries:

1. Kitsap Regional Library, Downtown Bremerton Branch, 612 Fifth St., Bremerton, WA 98337.

2. Richland Public Library, 955 Northgate Dr., Richland, WA 99352.

3. Hampton Public Library, 4207 Victoria Blvd., Hampton, VA 23669.

4. Brownsville Public Library, Main Branch, 2600 Central Blvd., Brownsville, TX 78520.

5. Brownsville Public Library, Southmost Branch, 4320 Southmost Blvd., Brownsville, TX 78521.

6. Ben May Main Library, 701 Government St., Mobile, AL 36602.

Single copies of the ROD are available upon request by contacting: Office of Congressional and Public Affairs; Attn. Ex-Enterprise CVN 65 EIS/OEIS; Puget Sound Naval Shipyard & Intermediate Maintenance Facility; 1400 Farragut Ave., Stop 2072; Bremerton, WA 98314-2072.

SUPPLEMENTARY INFORMATION: DoN selected Alternative 3 (Commercial Dismantlement) because this alternative safely disposes of the ex-Enterprise, including its hazardous materials, in approximately five years as compared to 15 years or more for other analyzed alternatives. Additionally, this alternative will have the lowest greenhouse gas emissions, will not require modifications to the Port of Benton in Washington State, and will be executed at approximately half the cost to the taxpayer as compared with other alternatives. Finally, this alternative supports the Navy mission by allowing the Navy to focus limited public shipyard resources on priority fleet maintenance. This alternative will not result in any decrease in workforce at Puget Sound Naval Shipyard & Intermediate Maintenance Facility (PSNS & IMF).

In making this decision, DoN carefully assessed potential human, natural, and cultural environmental impacts while considering strategic and operational needs and comments from government officials and agencies, tribes, nongovernmental organizations, and the public on the proposal and environmental analysis. DoN does not anticipate significant environmental impacts resulting from the selected alternative with the implementation of protective standard operating procedures, best management practices, and mitigation measures.

Dated: August 30, 2023.
J.E. Koningisor,
Lieutenant Commander, Judge Advocate General's Corps, U.S. Navy, Federal Register Liaison Officer.

[FR Doc. 2023-19078 Filed 9-1-23; 8:45 am]

BILLING CODE 3810-FF-P